DEPARTMENT OF HOMELAND SECURITY

Federal Emergency Management Agency

[Docket ID: FEMA-2007-0008]

National Advisory Council

AGENCY: Federal Emergency Management Agency, DHS.

ACTION: Committee Management; Request for Applicants for Appointment to the National Advisory Council.

SUMMARY: The Federal Emergency Management Agency (FEMA) is requesting individuals who are interested in serving on the National Advisory Council (NAC) to apply for appointment as identified in this notice. As provided for in the Post-Katrina Emergency Management Reform Act of 2006 (PKEMRA), the NAC shall advise the Administrator of FEMA on all aspects of emergency management. The NAC shall incorporate State, local and Tribal government and private sector input in the development and revision of the national preparedness goal, the national preparedness system, the National Incident Management System, the National Response Framework, and other related plans and strategies. The NAC consists of up to 35 members, all of whom are experts and leaders in their respective fields. FEMA seeks to appoint individuals to nine positions on the Council that are open due to vacancy or term expiration on June 15, 2013.

DATES: Applications and nominations will be accepted until Friday, March 22, 2013, 5:00 p.m. EST.

ADDRESSES: Applications for membership should be submitted by:

• Email: FEMA-NAC@fema.dhs.gov.

• Fax: (540) 504-2331.

• Mail: Office of the National Advisory Council, Federal Emergency Management Agency (Room 722F), 500 C Street SW., Washington, DC 20472-3100.

FOR FURTHER INFORMATION CONTACT: Alexandra Woodruff, Alternate Designated Federal Officer, The Office of the National Advisory Council, Federal Emergency Management Agency (Room 722F), 500 C Street SW., Washington, DC 20472-3100; telephone (202) 646-3746; fax (540) 504-2331; and email FEMA-NAC@fema.dhs.gov. For more information on the NAC, please visit http://www.fema.gov/about/national-advisory-council.

SUPPLEMENTARY INFORMATION: The NAC is an advisory committee established in accordance with the provisions of the Federal Advisory Committee Act (FACA), 5 U.S.C. App. (Pub. L. 92-463). As required by PKEMRA, the Secretary of Homeland Security established the NAC to ensure effective and ongoing coordination of Federal preparedness, protection, response, recovery, and mitigation for natural disasters, acts of terrorism, and other man-made disasters. FEMA is requesting individuals who are interested in serving on the NAC to apply for appointment. The terms for seven positions on the Council will expire June 15, 2013 in the following discipline areas: Emergency Management Field (one representative appointment), State Non-Elected Officials (one representative appointment), Standards Setting and Accrediting (one representative appointment), Public Health (one Special Government Employee (SGE) appointment), Functional Accessibility (one representative appointment), Emergency Medical Providers (one SGE appointment), and Tribal Non-Elected Officials (one representative appointment). FEMA seeks to appoint individuals to these positions for three-year terms. There are two vacancies with terms ending June 15, 2014 in the disciplines of Tribal Elected Officials (one representative appointment) and Emergency Response (one representative appointment). FEMA seeks to appoint individuals to serve the remainder of these terms. The position for Tribal Elected Officials (one representative appointment) is currently vacant with a term ending June 15, 2014. FEMA seeks to appoint an individual to serve the remainder of this term. The Administrator may appoint additional candidates to serve as FEMA Administrator Selection (either representative or SGE) for three-year terms. Additionally, there is an Ex Officio position for a representative from the U.S. Department of Defense.

Individuals interested in serving on the NAC are invited to apply for appointment by submitting a Resume or Curriculum Vitae (CV) to the Office of the NAC as listed in the ADDRESSES section of this notice. Letters of recommendation may also be provided, but are not required. There is no application form. However, applications/nominations must include the following information: The applicant's full name, home and business phone numbers, preferred email address, home and business mailing addresses, current position title & organization, and the discipline area of interest (i.e., Emergency Management). Current Council members whose terms are ending should notify the Office of the NAC of their interest in reappointment in lieu of submitting a new application, and if desired, provide updated application materials for consideration.

Appointees may be designated as a SGE as defined in section 202(a) of title 18, United States Code, or as a Representative appointment. Candidates selected for appointment as SGEs are required to complete a Confidential Financial Disclosure Form (Office of Government Ethics (OGE) Form 450). This form can be obtained by visiting the Web Site of the Office of Government Ethics (http://www.oge.gov), or by contacting the Office of the NAC. Please do not submit this form with your application. Contact information is provided in the FOR FURTHER INFORMATION CONTACT section of this notice.

The NAC will meet in person approximately three times a year. Members may be reimbursed for travel and per diem, and all travel for Council business must be approved in advance by the Designated Federal Officer. NAC members are expected to serve on one of the four NAC Subcommittees, which regularly meet by teleconference between the in person meetings. The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions. Registered lobbyists and current FEMA employees, Disaster Assistance Employees, Reservists, Contractors, and potential Contractors will not be considered for membership.

W. Craig Fugate,
Administrator, Federal Emergency Management Agency.

[FR Doc. 2013-05659 Filed 3-12-13; 8:45 am]

BILLING CODE 9111-48-P